DEPARTMENT OF ENERGY

Western Area Power Administration

Office of General Counsel; Agency Information Collection Extension

AGENCY: Western Area Power Administration, DOE.

ACTION: Notice and Request for Comments.

SUMMARY: The Western Area Power Administration (Western), an element of the Department of Energy (DOE), pursuant to the Paperwork Reduction Act of 1995, intends to extend for three years without change, an information collection request with the Office of Management and Budget (OMB). Western's current OMB control number 1910-5136 for its Applicant Profile Data form (APD) expires on September 30, 2014.

DATES: Comments regarding this proposed information collection must be received on or before the end of the comment period that closes on June 2, 2014. Western must receive comments by the end of the comment period to ensure consideration.

ADDRESSES: Written comments may be sent to Mr. Ronald Klinefelter, Assistant General Counsel, Western Area Power Administration, 12155 W. Alameda Parkway, Lakewood, CO 80228 or by email to PRAComments@wapa.gov. Please refer to “Paperwork Reduction Act Information Collection” as the subject of your comments.

FOR FURTHER INFORMATION CONTACT: Please contact Mr. Ronald Klinefelter, Assistant General Counsel, Western Area Power Administration, 12155 W. Alameda Parkway, Lakewood, CO 80228, telephone (720) 962-7010, or email PRAComments@wapa.gov. Western's existing collection instrument, the APD, can be viewed in the Invitation for Public Comments on Western's Web page ww2.wapa.gov/sites/Western/Documents/APDcomments.pdf.

SUPPLEMENTARY INFORMATION: This information collection request relates to: (1) OMB No. 1910-5136; (2) Information Collection Request Title: Western Area Power Administration Applicant Profile Data; (3) Type of Review: renewal; (4) Purpose: The proposed collection of information is necessary for the proper performance of Western's functions. Western markets a limited amount of Federal power. Western has discretion to determine who will receive an allocation of Federal power. Due to the high demand for Western's power and limited amount of available power under established marketing plans, Western needs to be able to collect information using the APD to evaluate the entities that apply to receive allocations of Federal power; (5) Annual Estimated Number of Respondents: 33.3; (6) Annual Estimated Number of Total Responses: 33.3; (7) Annual Estimated Number of Burden Hours: 266.7; (8) Annual Estimated Reporting and Recordkeeping Cost Burden: $31,564.37.

I. Statutory Authority

Reclamation Laws are a series of laws arising from the Desert Land Act of 1872 and include but are not limited to: the Desert Land Act of 1872, Reclamation Act of 1902, Reclamation Project Act of 1939, and the Acts authorizing each individual project such as the Central Valley Project Authorizing Act of 1937.¹ The Reclamation Act of 1902 established the Federal reclamation program.² The basic principle of the Reclamation Act of 1902 was that the United States, through the Secretary of the Interior, would build and operate irrigation works from the proceeds of public land sales in the sixteen arid Western states (a seventeenth was later added). The Reclamation Project Act of 1939 expanded the purposes of the reclamation program and specified certain terms for contracts that the Secretary of the Interior enters into to furnish water and power.³ Congress enacted the Reclamation Laws for purposes that include enhancing navigation, protection from floods, reclaiming the arid lands in the Western United States, and for fish and wildlife.⁴ Congress intended the production of power would be a supplemental feature of the multi-purpose water projects authorized under the Reclamation Laws.⁵ No contract entered into by the United States for power may impair the efficiency of the project for irrigation purposes.⁶ Section 5 of the Flood Control Act of 1944 is read in pari materia with Reclamation Laws.⁷ In 1977, the Department of Energy Organization Act transferred the power marketing functions of the Department of the Interior to Western.⁸ Pursuant to this authority, Western markets Federal hydropower. As part of Western's marketing authority, Western needs to obtain information from interested entities who desire an allocation of Federal power. The Paperwork Reduction Act of 1995 requires Western to obtain a clearance from OMB before collecting this information.⁹

¹ See Ch. 107, 19 stat. 377 (1872), Ch. 1093, 32 Stat. 388 (1902), Ch, 418, 53 Stat. 1187 (1939), ch. 832, 50 Stat. 844, 850 (1937), all as amended and supplemented.

² See, Ch. 1093, 32 Stat. 388, as amended and supplemented.

³ See, Ch. 418, 53 Stat. 1187 (1939), as amended and supplemented.

⁴ See, e.g., Ch. 832, 50 Stat. 844, 850 (1937), as amended and supplemented.

⁵ See, e.g., Ch. 832, 50 Stat. 844, 850 (1937), as amended and supplemented.

⁶ See, 43 U.S.C. 485h(c).

⁷ See Act of December 22, 1944, Ch. 665, 58 Stat. 887, as amended and supplemented.

⁸ See, 42 U.S.C. 7152(a)(1)(E).

⁹ See 44 U.S.C. 3501, et seq.

II. This Process Determines the Format of the APD and Is Not a Call for Applications

This public process and the associated Federal Register notice only determine the information that Western will collect from an entity desiring to apply for a Federal power allocation. This public process is a legal requirement that Western must comply with before Western can request information from potential preference customers. This public process is not the process whereby interested parties request an allocation of Federal power. The actual allocation of power is outside the scope of this proceeding. Please do not submit a request for Federal power in this process. At a later time, through a separate process, Western will issue a call for applications, as part of its project-specific marketing plans. When Western issues a call for applications, the information Western proposes to collect is voluntary. Western will use the information collected, in conjunction with its project-specific marketing plans, to determine an entity's eligibility and ultimately which entity will receive an allocation of Federal power.

III. Invitation for Comments

Comments are invited on: (1) Whether the extended collection of information is necessary for the proper performance of the functions of the agency, including whether the information shall have practical utility; (2) the accuracy of the agency's estimate of the burden of the proposed collection of information, including the validity of the methodology and assumptions used; (3) ways to enhance the quality, utility, and clarity of the information to be collected; and (4) ways to minimize the burden of the collection of information on respondents, including the use of automated electronic, mechanical or other collection techniques or other forms of information technology.

Dated: March 20, 2014.
Mark A. Gabriel,
Administrator.

[FR Doc. 2014-07365 Filed 4-1-14; 8:45 am]

BILLING CODE 6450-01-P